DEPARTMENT OF THE TREASURY

Submission for OMB Review; Comment Request

November 15, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before December 26, 2002 to be assured of consideration.

Financial Crimes Enforcement Network (FinCEN)

OMB Number: 1506-0019.

Form Number: FinCEN Form 101.

Type of Review: Revision.

Title: Suspicious Activity Report by the Securities and Futures Industry.

Description: Treasury is requiring certain securities broker-dealers to file suspicious activity Reports.

Respondents: Business or other for-profit.

Estimated Number of Respondents/Recordkeepers: 8,300.

Estimated Burden Hours Per Respondent/Recordkeeper: 4 hours, 40 minutes.

Estimated recordkeeping/filing per response: 4 hours.

Estimated record (SAR) completion time: 40 minutes.

Frequency of Response: On occasion.

Estimated Total Reporting/Recordkeeping Burden: 9,334 hours.

Clearance Officer: Lois K. Holland (202) 622-1563, Departmental Offices, Room 11000, 1750 Pennsylvania Avenue, NW., Washington, DC 20220.

OMB Reviewer: Joseph F. Lackey, Jr. (202) 395-7316, Office of Management and Budget, Room 10235, New Executive Office Building, Washington, DC 20503.

Mary A. Able,
Departmental Reports, Management Officer.

[FR Doc. 02-29990 Filed 11-25-02; 8:45 am]

BILLING CODE 4810-02-P